SMALL BUSINESS ADMINISTRATION

[License No. 03/03-0249]

Argosy Investment Partners IV, L.P.; Notice Seeking Exemption Under Section 312 of the Small Business Investment Act, Conflicts of Interest

Notice is hereby given that Argosy Investment Partners IV, L.P., 950 West Valley Road, Wayne, PA 19087, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Argosy Investment Partners IV, L.P. proposes to provide financing to Joliet Holdings, LLC, c/o MTN Capital Partners, 60 East 42nd Street, New York, NY 10165.

The financing is brought within the purview of § 107.730(a) and (d) of the Regulations because Odyssey Capital Group, L.P., an Associate of Argosy Investment Partners IV, L.P., owns more than ten percent of Joliet Holdings, LLC, and therefore this transaction is considered a financing of an Associate requiring prior SBA approval.

Notice is hereby given that any interested person may submit written comments on the transaction, within fifteen days of the date of this publication, to the Associate Administrator for Investment, U.S. Small Business Administration, 409 Third Street SW, Washington, DC 20416.

Bailey DeVries,
Associate Administrator, Office of Investment and Innovation.

[FR Doc. 2022-09515 Filed 5-3-22; 8:45 am]

BILLING CODE P